DEPARTMENT OF COMMERCE

Patent and Trademark Office

[Docket No.: PTO-P-2020-0026]

COVID-19 Prioritized Examination Pilot Program

Correction

In Notice document 2020-10372, appearing on pages 28932-28935, in the issue of Thursday, May 14, 2020, make the following correction:

On page 28933, in the first column, under the heading “DATES:”, on the sixth line, the date reading “July 13, 2020” should read “May 14, 2020”.

[FR Doc. C1-2020-10372 Filed 5-14-20; 4:15 pm]

BILLING CODE 1301-01-D